DEPARTMENT OF COMMERCE

International Trade Administration

[C-507-601]

Certain In-shell Roasted Pistachios from the Islamic Republic of Iran: Extension of Time Limit for Final Results of Countervailing Duty Administrative Review

AGENCY: Import Administration, International Trade Administration, Department of Commerce.

EFFECTIVE DATE: March 10, 2006.

FOR FURTHER INFORMATION CONTACT: Darla Brown, AD/CVD Operations, Office 3, Import Administration, U.S. Department of Commerce, Room 4014, 14th Street and Constitution Avenue NW., Washington DC 20230; telephone (202) 482-2786.

SUPPLEMENTARY INFORMATION:

Background

On October 1, 2004, the Department published in the Federal Register a notice of opportunity to request an administrative review of the countervailing duty order on roasted in-shell pistachios from Iran (69 FR 58889). As the result of a request properly filed by Tehran Negah Nima Trading Company, Inc. (Nima) on October 27, 2004, we are conducting an administrative review of the countervailing duty order on roasted in-shell pistachios from Iran with respect to Nima. On November 19, 2004, we published in the Federal Register the initiation of this countervailing duty administrative review (69 FR 67701). On November 7, 2005, we published in the Federal Register our preliminary results. See Certain In-shell Roasted Pistachios from the Islamic Republic of Iran: Preliminary Results of Countervailing Duty Administrative Review, 70 FR 67453 (November 7, 2005).

Extension of Time Limit for Final Results of Review

Section 751(a)(3)(A) of the Tariff Act of 1930, as amended (the Act), requires the Department to issue final results within 120 days after the date on which the preliminary determination is published. However, if it is not practicable to complete the final results of review within this time period, section 751(a)(3)(A) of the Act allows the Department to extend that 120-day period to 180 days.

We determine that completion of the final results of the instant review within the 120-day period is not practicable as there are a large number of programs to be considered and analyzed by the Department. In order to complete our analysis, the Department required additional and/or clarifying information after the publication of the preliminary results, and now needs time to review the responses to these requests as well. Given the complexity of these issues, and in accordance with section 751(a)(3)(A) of the Act, we are extending the time period for issuing the preliminary results of reviews by 60 days to 180 days. Thus, the final results of review are due no later than May 8, 2006, the next business day after 180 days from the publication date of the preliminary results.

This notice is issued and published in accordance with sections 751(a)(3)(A) and 777(i)(1) of the Act.

Dated: March 1, 2006.
Stephen J. Claeys,
Deputy Assistant Secretary for Import Administration.

[FR Doc. E6-3463 Filed 3-9-06; 8:45 am]

BILLING CODE 3510-DS-S